DEPARTMENT OF TRANSPORTATION

Federal Aviation Administration

Noise Exposure Map Notice; Key West International Airport, Key West, FL

AGENCY: Federal Aviation Administration, DOT.

ACTION: Notice.

SUMMARY: The Federal Aviation Administration (FAA) announces its determination that the Noise Exposure Maps submitted by Monroe County for the Key West International Airport under the provisions of the Aviation Safety and Noise Abatement Act and FAA's regulations are in compliance with applicable requirements.

DATES: This notice is effective December 19, 2013, and is applicable beginning December 19, 2013.

FOR FURTHER INFORMATION CONTACT: Allan Nagy, Federal Aviation Administration, Orlando Airports District Office, 5950 Hazeltine National Drive Citadel International Building, Suite 400, Orlando, FL 32822, 407-812-6331.

SUPPLEMENTARY INFORMATION: This notice announces that the FAA finds that the Noise Exposure Maps submitted for the Key West International Airport are in compliance with applicable requirements of Title 14 Code of Federal Regulations (CFR) part 150, effective December 19, 2013. Under 49 U.S.C. section 47503 of the Aviation Safety and Noise Abatement Act (the Act), an airport operator may submit to the FAA Noise Exposure Maps which meet applicable regulations and which depict non-compatible land uses as of the date of submission of such maps, a description of projected aircraft operations, and the ways in which such operations will affect such maps. The Act requires such maps to be developed in consultation with interested and affected parties in the local community, government agencies, and persons using the airport. An airport operator who has submitted Noise Exposure Maps that are found by FAA to be in compliance with the requirements of 14 CFR part 150, promulgated pursuant to the Act, may submit a Noise Compatibility Program for FAA approval which sets forth the measures the airport operator has taken or proposes to take to reduce existing non-compatible uses and prevent the introduction of additional non-compatible uses.

The FAA has completed its review of the Noise Exposure Maps and accompanying documentation submitted by Monroe County. The documentation that constitutes the “Noise Exposure Maps” as defined in Section 150.7 of 14 CFR part 150 includes: Table 4-1, 2013 FAA ATADS and Part 150 Aircraft Operations; Table 4-2, Flight Track Utilization by Aircraft Category for East Flow Operations; Table 4-3, Flight Track Utilization by Aircraft Category for West Flow Operations; Table 4-4, 2013 Air Carrier Flight Operations; Table 4-5, 2013 Commuter and Air Taxi Flight Operations; Table 4-6, 2013 Average Daily Engine Run-Up Operations; Table 4-7, 2013 General Aviation Flight Operations; Table 4-8, 2013 Military Aircraft Flight Operations; Table 4-9, Summary of 2013 Flight Operations; Table 4-10, 2013 Existing Condition Noise Exposure Estimates; Table 5-1, 2018 FAA TAF and Part 150 Aircraft Operations; Table 5-2, 2018 Air Carrier Flight Operations; Table 5-3, 2018 Commuter and Air Taxi Flight Operations; Table 5-4, 2018 Average Daily Engine Run-Up Operations, Table 5-5, 2018 General Aviation Flight Operations; Table 5-6, 2018 Military Aircraft Operations; Table 5-7, Summary of 2018 Flight Operations; Table 5-8, 2018 Future Condition Noise Exposure Estimates; Figure 1-5, Designated Aircraft Warm-Up Circle Location; Figure 2-1, General Study Area; Figure 2-2, Existing Generalized Land Use; Figure 2-3, Community and Recreational Facilities; Figure 2-4, City of Key West Future Land Use and Zoning Map; Figure 3-1, Key West Airspace; Figure 3-2, Key West All Weather Wind Rose; Figure 4-1, Radar Flight Tracks—Arrivals; Figure 4-2, Radar Flight Tracks—Departures; Figure 4-3, East Flow Flight Tracks; Figure 4-4, West Flow Flight Tracks; Figure 4-5, Touch and Go and Helicopter Flight Tracks; Figure 4-6, Aircraft Run-Up and Spool-Up Locations; Figure 4-8, 2013 Existing Condition Noise Exposure Map; Figure 4-9, Noise Monitoring Locations; Figure 5-1, 2018 Future Condition Noise Exposure Map; Figure 5-2, Comparison of Existing Condition and Future Condition Noise Exposure Maps; Figure 6-1, Airport Transmittal Letter; Figure 6-2, Sponsor's Certification.

The FAA has determined that these Noise Exposure Maps and accompanying documentation are in compliance with applicable requirements. This determination is effective on December 19, 2013.

FAA's determination on the airport operator's Noise Exposure Maps is limited to a finding that the maps were developed in accordance with the procedures contained in Appendix A of 14 CFR part 150. Such determination does not constitute approval of the airport operator's data, information or plans, or a commitment to approve a Noise Compatibility Program or to fund the implementation of that Program. If questions arise concerning the precise relationship of specific properties to noise exposure contours depicted on a Noise Exposure Map submitted under Section 47503 of the Act, it should be noted that the FAA is not involved in any way in determining the relative locations of specific properties with regard to the depicted noise exposure contours, or in interpreting the Noise Exposure Maps to resolve questions concerning, for example, which properties should be covered by the provisions of Section 47506 of the Act. These functions are inseparable from the ultimate land use control and planning responsibilities of local government. These local responsibilities are not changed in any way under 14 CFR part 150 or through FAA's review of Noise Exposure Maps. Therefore, the responsibility for the detailed overlaying of noise exposure contours onto the map depicting properties on the surface rests exclusively with the airport operator that submitted those maps, or with those public agencies and planning agencies with which consultation is required under Section 47503 of the Act. The FAA has relied on the certification by the airport operator, under Section 150.21 of 14 CFR part 150, that the statutorily required consultation has been accomplished.

Copies of the full Noise Exposure Maps documentation and of the FAA's evaluation of the maps are available for examination at the following locations:

(1) Key West International Airport Administrative Office

(2) Federal Aviation Administration, Orlando Airports District Office, 5950 Hazeltine National Drive, Citadel International Building, Suite 400, Orlando, FL 32822

Questions may be directed to the individual named above under the heading, FOR FURTHER INFORMATION CONTACT.

Issued in Orlando, FL on December 19, 2013.
Bart Vernace,
Manager, Orlando Airports District Office, Federal Aviation Administration.

[FR Doc. 2013-31075 Filed 12-26-13; 8:45 am]

BILLING CODE 4910-13-P